DEPARTMENT OF COMMERCE

Patent and Trademark Office

[Docket No. PTO-C-2021-0016]

New Implementation Date for Patent Practitioner Registration Statement

AGENCY: United States Patent and Trademark Office, Department of Commerce.

ACTION: Notice of revised implementation date.

SUMMARY: The United States Patent and Trademark Office (USPTO or Office) is delaying the implementation of the biennial mandatory registration statement required from registered patent practitioners and individuals granted limited recognition to practice before the USPTO in patent matters indefinitely.

DATES: Delayed Implementation Date: The USPTO anticipates that the collection of the registration statement will not start until approximately 2025. The USPTO will provide a six months advance notice prior to the collection of the registration statement.

FOR FURTHER INFORMATION CONTACT: Will Covey, Deputy General Counsel and OED Director, at 571-272-4097 or at oed@uspto.gov. Please direct media inquiries to the USPTO's Office of the Chief Communications Officer at 571-272-8400.

SUPPLEMENTARY INFORMATION: Pursuant to the final rule, Setting and Adjusting Patent Fees During Fiscal Year 2020, 85 FR 46932 (August 3, 2020), registered patent practitioners and individuals granted limited recognition to practice before the USPTO in patent matters may be required to biennially submit a mandatory registration statement. See 37 CFR 11.11(a)(2). In the final rule, the USPTO anticipated that practitioners would be required to submit a registration statement in the spring of 2022, and that patent practitioners would make the voluntary Continuing Legal Education (CLE) certification when submitting the registration statement. 85 FR 46932, at 46948.

On October 9, 2020, the USPTO published a request for comments (RFC) seeking public input on proposed CLE guidelines. 85 FR 64128. The RFC provided that pursuant to the final rule published on August 3, 2020, registered patent practitioners and individuals granted limited recognition to practice before the USPTO in patent matters will be required to biennially submit a mandatory registration statement beginning on March 1, 2022. The comment period closed on January 7, 2021. The USPTO received 26 comments, addressing both the proposed CLE guidelines and the provisions of the final patent fee rule which establish the biennial electronic registration statement.

After considering numerous factors, on June 10, 2021, the USPTO issued a notice of revised implementation date which stated that the USPTO has decided to delay the implementation of the registration statement. 86 FR 30920. The decision to delay was based on the USPTO's consideration of public comments received regarding the registration statement in response to the RFC on the proposed CLE guidelines. The USPTO's decision was also based on a close analysis of operational priorities and budget. The USPTO noted that delaying implementation of the registration statement will allow the Office to conserve resources by integrating the registration statement with other USPTO information systems. Therefore, the USPTO anticipated that the collection of the registration statement would begin on November 1, 2024.

The USPTO has decided to delay the implementation of the registration statement. The decision to delay is based on a close analysis of operational priorities and budget. The USPTO notes that delaying implementation of the registration statement will allow the Office to conserve resources by integrating the registration statement with other USPTO information systems. Therefore, the USPTO anticipates that the collection of the registration statement will not start until approximately 2025.

Once a new date for collection of the registration statement is certain, the public will be given a six months advance notice.

Katherine K. Vidal,
Under Secretary of Commerce for Intellectual Property and Director of the United States Patent and Trademark Office.

[FR Doc. 2023-07887 Filed 4-13-23; 8:45 am]

BILLING CODE 3510-16-P